DEPARTMENT OF ENERGY

Federal Energy Regulatory Commission

[Docket No. EL17-73-000]

New Jersey Boroughs of Milltown, Park Ridge, and South River v. Public Service Electric and Gas Company; Notice of Complaint

Take notice that on May 9, 2017, pursuant to section 206 of the Federal Power Act, 16 U.S.C. 824e (2017) and Rules 206 and 212 of the Rules of Practice and Procedure of the Federal Energy Regulatory Commission's (Commission), 18 CFR 385.206 and 385.212 (2017) the New Jersey Boroughs of Milltown, Park Ridge, and South River (Complainants) filed a complaint against Public Service Electric and Gas Company (Respondent) asserting that the base return on equity used in calculating transmission Formula Rates under the PJM Interconnection, L.L.C. Open Access Transmission Tariff is unjust and unreasonable, as more fully explained in the complaint.

Complainants certifies that copies of the complaint were served on Respondent via electronic mail through its counsel.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions or protests must be filed on or before the comment date. The Respondent's answer, motions to intervene, and protests must be served on the Complainants.

The Commission encourages electronic submission of protests and interventions in lieu of paper using the eFiling link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on May 30, 2017.

Dated: May 10, 2017.
Kimberly D. Bose,
Secretary.

[FR Doc. 2017-09942 Filed 5-16-17; 8:45 am]

BILLING CODE 6717-01-P